DEPARTMENT OF AGRICULTURE

Food Safety and Inspection Service

[Docket No. FSIS-2007-0004]

Codex Alimentarius Commission: Meeting of the Codex Committee on General Principles

AGENCY: Office of the Under Secretary for Food Safety, USDA.

ACTION: Notice of public meeting and request for comments.

SUMMARY: The Office of the Under Secretary for Food Safety, U.S. Department of Agriculture (USDA), is sponsoring a public meeting on March 7, 2007. The objective of the public meeting is to provide information and receive public comments on agenda items and draft United States positions that will be discussed at the Twenty-fourth Session of the Codex Committee on General Principles (CCGP) of the Codex Alimentarius Commission (Codex), which will be held in Paris, France, April 2-6, 2007. The Under Secretary for Food Safety recognizes the importance of providing interested parties the opportunity to obtain background information on the 24th Session of CCGP and to address items on the agenda.

DATES: The public meeting is scheduled for Wednesday, March 7, 2007, 1-4 p.m.

ADDRESSES: The public meeting will be held in Room 107-A, Jamie L. Whitten Building, USDA, 1400 Independence Avenue, SW., Washington, DC 20250. Documents related to the 24th Session of CCGP will be accessible via the World Wide Web at the following address: http://www.codexalimentarius.net/current.asp.

The U.S. Delegate to the 24th Session of CCGP, F. Edward Scarbrough, Ph.D., U.S. Codex Office, Food Safety and Inspection Service, USDA, invites U.S. interested parties to submit their comments electronically to the following e-mail address uscodex@fsis.usda.gov.

FOR FURTHER INFORMATION ABOUT THE 24TH SESSION OF THE CCGP CONTACT: F. Edward Scarbrough, Ph.D., U.S. Manager for Codex, Tel: (202) 720-2057, Fax: (202) 720-3157; E-mail: ed.scarbrough@fsis.usda.gov.

FOR FURTHER INFORMATION ABOUT THE PUBLIC MEETING CONTACT: Jasmine Matthews, Program Analyst, U.S. Codex Office, Tel: (202) 205-7760, Fax: (202) 720-3157, E-mail: jasmine.matthews@fsis.usda.gov.

SUPPLEMENTARY INFORMATION:

Background

The Codex Alimentarius Commission (Codex) was established in 1963 by two United Nations organizations, the Food and Agriculture Organization and the World Health Organization. Through adoption of food standards, codes of practice, and other guidelines developed by its committees, and by promoting their adoption and implementation by governments, Codex seeks to protect the health of consumers and ensure that fair practices are used in trade.

The Codex Committee on General Principles (CCGP) deals with rules and procedures referred to it by the Codex Alimentarius Commission including the establishment of principles which define the purpose and scope of the Codex Alimentarius and the nature of Codex standards. The development of mechanisms to address any economic impact statements is also the responsibility of the CCGP. The Committee is hosted by the Government of France.

Issues To Be Discussed at the Public Meeting

The following items on the Agenda for the 24th Session of the CCGP will be discussed during the public meeting:

• Proposed Draft Working Principles for Risk Analysis for Food Safety.

• Proposed Draft Revised Code of Ethics for International Trade in Foods.

• Respective roles of the Regional Coordinators and the Members of the Executive Committee elected on a geographic basis.

○ Designation of the Chairperson of the Coordinating Committee by the Regional Coordinator.

○ Respective roles of the Coordinator and the Member elected on a geographical basis in the Executive Committee.

• Review of the Procedures for the Elaboration of Codex Standards and Related Texts.

○ Proposed amendments to the Procedures.

○ Guide to the Procedure for the Revision and Amendment of Codex Standards; and Arrangements for the Amendment of Codex Standards Elaborated by Codex Committees which have adjourned sine die.

• Review of the General Principles of the Codex Alimentarius.

• Proposed new definitions of risk analysis terms related to food safety.

• Consideration of the Structure and Presentation of the Procedural Manual.

Each issue listed will be fully described in documents distributed, or to be distributed, by the Secretariat prior to the Meeting. Members of the public may access or request copies of these documents (see For Further Information About the 24th Session of the CCGP Contact).

Public Meeting

At the March 7, 2007 public meeting, draft U.S. positions on the agenda items will be described and discussed, and attendees will have the opportunity to pose questions and offer comments. Written comments may be offered at the meeting or sent to the U.S. Delegate for the 24th Session of the CCGP, F. Edward Scarbrough (see ADDRESSES). Written comments should state that they relate to activities of the 24th Session of the CCGP.

Additional Public Notification

Public awareness of all segments of rulemaking and policy development is important. Consequently, in an effort to ensure that minorities, women, and persons with disabilities are aware of this notice, FSIS will announce it on-line through the FSIS Web page located at http://www.fsis.usda.gov/regulations/2007_Notices_Index/. FSIS also will make copies of this Federal Register publication available through the FSIS Constituent Update, which is used to provide information regarding FSIS policies, procedures, regulations, Federal Register notices, FSIS public meetings, recalls, and other types of information that could affect or would be of interest to constituents and stakeholders. The update is communicated via Listserv, a free electronic mail subscription service for industry, trade and farm groups, consumer interest groups, allied health professionals, and other individuals who have asked to be included. The update is available on the FSIS Web page. Through the Listserv and Web page, FSIS is able to provide information to a much broader and more diverse audience. In addition, FSIS offers an e-mail subscription service which provides automatic and customized access to selected food safety news and information. This service is available at http://www.fsis.usda.gov/news_and_events/email_subscription/. Options range from recalls to export information to regulations, directives and notices. Customers can add or delete subscriptions themselves and have the option to password protect their account.

Done at Washington, DC, on February 8, 2007.
F. Edward Scarbrough,
U.S. Manager for Codex Alimentarius.

[FR Doc. E7-2436 Filed 2-12-07; 8:45 am]

BILLING CODE 3410-DM-P